DEPARTMENT OF ENERGY

Federal Energy Regulatory Commission

[Docket Nos. RP00-488-002 and RP03-179-001]

Portland Natural Gas Transmission System; Notice of Compliance Filing

February 20, 2003.

Take notice that on February 14, 2003, Portland Natural Gas Transmission System (PNGTS) tendered for filing as part of its FERC Gas Tariff, Original Volume No. 1, the revised tariff sheets contained in Appendix A of the filing.

PNGTS states that the purpose of this filing is to comply with the Commission's January 30, 2003 Order on PNGTS's Order No. 637 compliance filings.

PNGTS further states that copies of this filing are being served on all jurisdictional customers, applicable state commissions, and to parties on the official service list compiled by the Secretary of the Commission in these proceedings.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 26, 2003.

Magalie R. Salas,
Secretary.

[FR Doc. 03-4464 Filed 2-25-03; 8:45 am]

BILLING CODE 6717-01-P